DEPARTMENT OF HEALTH AND HUMAN SERVICES

Centers for Disease Control and Prevention

Centers for Disease Control and Prevention/Health Resources and Services Administration (CDC/HRSA) Advisory Committee on HIV and STD Prevention and Treatment: Notice of Charter Renewal

This gives notice under the Federal Advisory Committee Act (Pub. L. 92-463) of October 6, 1972, that the CDC/HRSA Advisory Committee on HIV and STD Prevention and Treatment, Department of Health and Human Services, has been renewed for a 2-year period through November 25, 2012.

Contact Person for More Information: Kevin Fenton, M.D., PhD, Designated Federal Officer, CDC/HRSA Advisory Committee on HIV and STD Prevention and Treatment, Department of Health and Human Services, CDC, 1600 Clifton Road, NE., Mailstop E07, Atlanta, Georgia 30333, telephone (404)639-8000 or fax (404)639-8600.

The Director, Management Analysis and Services Office, has been delegated the authority to sign Federal Register notices pertaining to announcements of meetings and other committee management activities, for both the Centers for Disease Control and Prevention and the Agency for Toxic Substances and Disease Registry.

Dated: December 13, 2010.
Elaine L. Baker,
Director, Management Analysis and Services Office, Centers for Disease Control and Prevention.

[FR Doc. 2010-31785 Filed 12-16-10; 8:45 am]

BILLING CODE 4163-18-P